DEPARTMENT OF DEFENSE

Department of the Navy

Notice of Extension of Comment Period for the Draft Environmental Impact Statement/Overseas Environmental Impact Statement for the Northwest Training Range Complex

AGENCY: Department of the Navy, DoD.

ACTION: Notice.

SUMMARY: An amended notice of availability was published by the U.S. Environmental Protection Agency in the Federal Register (74 FR 8940) on February 27, 2009 for the Northwest Training Range Complex (NWTRC) Draft Environmental Impact Statement/Overseas Environmental Impact Statement (EIS/OEIS) extending the public comment period to March 11, 2009. This notice announces a further extension of the public comment period until April 13, 2009.

FOR FURTHER INFORMATION CONTACT: Mrs. Kimberly Kler, Naval Facilities Engineering Command Northwest, Attention: NWTRC EIS/OEIS, 1101 Tautog Circle, Suite 203, Silverdale, Washington, 98315-1101; or http://www.NWTRangeComplexEIS.com.

SUPPLEMENTARY INFORMATION: The public comment period on the NWTRC Draft EIS/OEIS will be extended until April 13, 2009. Comments may be submitted in writing to Naval Facilities Engineering Command Northwest, Attention: Mrs. Kimberly Kler—NWTRC EIS/OEIS, 1101 Tautog Circle, Suite 203, Silverdale, WA 98315-1101. In addition, comments may be submitted online at http://www.NWTRangeComplexEIS.com during the comment period. All written comments must be postmarked by April 13, 2009, to ensure they become part of the official record. All comments will be addressed in the Final EIS/OEIS.

Copies of the Draft EIS/OEIS are available for public review at the following libraries:

1. Humboldt County Library, 1313 Third Street, Eureka, CA;

2. Jefferson County Rural Library, 620 Cedar Avenue, Port Hadlock, WA;

3. Kitsap Regional Library, 1301 Sylvan Way, Bremerton, WA;

4. Driftwood Public Library, 801 SW. Highway 101, Lincoln City, OR;

5. Newport Public Library, 35 NW. Ney Street, Newport, OR;

6. Tillamook County Library, 1716 3rd Street, Tillamook, OR;

7. Suislaw Public Library, 1460 9th Street, Florence, OR;

8. Oak Harbor Public Library, 1000 SE. Regatta Drive, Oak Harbor, WA;

9. Port Townsend Public Library, 1220 Lawrence St., Port Townsend, WA;

10. Timberland Regional Library, 420 Seventh Street, Hoquiam, WA.

The NWTRC Draft EIS/OEIS is also available for electronic public viewing at: http://www.NWTRangeComplexEIS.com.

Dated: March 13, 2009.
A.M. Vallandingham,
Lieutenant Commander, Judge Advocate General's Corps, U.S. Navy, Federal Register Liaison Officer.

[FR Doc. E9-5895 Filed 3-17-09; 8:45 am]

BILLING CODE 3810-FF-P